ENVIRONMENTAL PROTECTION AGENCY

[EPA-HQ-OEJECR-2023-0099; FRL-10687-01-OA]

White House Environmental Justice Advisory Council; Notification of Virtual Public Meeting

AGENCY: Environmental Protection Agency (EPA).

ACTION: Notification for a public meeting.

SUMMARY: Pursuant to the Federal Advisory Committee Act (FACA), the U.S. Environmental Protection Agency (EPA) hereby provides notice that the White House Environmental Justice Advisory Council (WHEJAC) will meet on the date and times described below. Due to unforeseen administrative circumstances, EPA is announcing this meeting with less than 15 calendar days public notice. The meeting is open to the public. For additional information about registering to attend the meeting or to provide a public comment, please see “REGISTRATION” under SUPPLEMENTARY INFORMATION. Pre-registration is required.

DATES: The WHEJAC will convene a virtual public meeting on Wednesday, March 1, 2023, at approximately 3:00 p.m. to 7:30 p.m. Eastern Time. Meeting discussions will focus on several topics including, but not limited to, workgroup activity, proposed recommendations for the Council on Environmental Quality's (CEQ) consideration, CEQ briefings, new charges, and interaction between the White House Interagency Council on Environmental Justice (IAC) and WHEJAC. A public comment period relevant to current WHEJAC charges will be considered by the WHEJAC at the meeting (See SUPPLEMENTARY INFORMATION). Members of the public who wish to participate during the public comment period must register by 11:59 p.m., Eastern Time, February 27, 2023.

FOR FURTHER INFORMATION CONTACT: Karen L. Martin, WHEJAC Designated Federal Officer, U.S. EPA; email: whejac@epa.gov; telephone (202)564-0203. Additional information about the WHEJAC is available at https://www.epa.gov/environmentaljustice/white-house-environmental-justice-advisory-council.

SUPPLEMENTARY INFORMATION: The Charter of the WHEJAC states that the advisory committee will provide independent advice and recommendations to the Chair of the CEQ and to the IAC. The WHEJAC will provide advice and recommendations about broad cross-cutting issues, related but not limited to, issues of environmental justice and pollution reduction, energy, climate change mitigation and resiliency, environmental health, and racial inequity. The WHEJAC's efforts will include a broad range of strategic, scientific, technological, regulatory, community engagement, and economic issues related to environmental justice.

I. Registration

Individual registration is required for the public meeting. Information on how to register is located at https://www.epa.gov/environmentaljustice/white-house-environmental-justice-advisory-council. Registration for the meeting is available throughout the scheduled end time of the meeting. Registration to speak during the public comment period will close 11:59 p.m., Eastern Time, on February 27, 2023. When registering, please provide your name, organization, city and state, and email address for follow up. Please also indicate whether you would like to provide public comment during the meeting, or whether you are submitting written comments.

A. Public Comment

The WHEJAC is interested in receiving public comments relevant to the following charges, topics, and questions currently under consideration: (1) the Climate and Economic Justice Screening Tool; (2) the Environmental Justice Scorecard; (3) Indigenous Peoples and Tribal Nations; (4) Adverse health impacts from a changing climate disproportionally affects disadvantaged communities. What are the policies or programs that can address adverse health impacts before, during, and after extreme climate events?; (5) Tribal communities are disproportionately impacted by the ecosystem collapse caused by climate change that is destroying subsistence hunting, fishing, and growing traditional foods. How can Federal Government policies and programs prevent or address these impacts?; (6) What are the core elements of a multi-agency strategy apart from Carbon Capture Utilization and Sequestration (CCUS) that can address potential use of carbon management while protecting communities? More information on WHEJAC charges is located online at: https://www.epa.gov/environmentaljustice/white-house-environmental-justice-advisory-council under WHEJAC Membership and Workgroups. Priority to speak during the meeting will be given to public commenters with comments relevant to the topics and questions listed above. Every effort will be made to hear from as many registered public commenters during the time specified on the agenda. Individuals or groups making remarks during the public comment period will be limited to three (3) minutes. Please be prepared to briefly describe your issue and your recommendation relevant to the current charges, topics, and questions under consideration by the WHEJAC. Submitting written comments for the record is strongly encouraged. You can submit your written comments in three different ways: (1) by creating comments in the Docket ID No. EPA-HQ-OEJECR-2023-0099 at http://www.regulations.gov, (2) by using the webform at https://www.epa.gov/environmentaljustice/forms/white-house-environmental-justice-advisory-council-whejac-public-comment, and (3) by sending comments via email to whejac@epa.gov. Written comments can be submitted through March 15, 2023.

B. Information About Services for Individuals With Disabilities or Requiring English Language Translation Assistance

For information about access or services for individuals requiring assistance, please contact Karen L. Martin via email at whejac@epa.gov or contact by phone at (202) 546-0203. To request special accommodations for a disability or other assistance, please submit your request at least five (5) working days prior to the meeting to give EPA sufficient time to process your request. All requests should be sent to the email listed in the FOR FURTHER INFORMATION CONTACT section.

Matthew Tejada,
Deputy Assistant Administrator for Environmental Justice, Office of Environmental Justice and External Civil Rights.

[FR Doc. 2023-04179 Filed 2-28-23; 8:45 am]

BILLING CODE 6560-50-P